DEPARTMENT OF ENERGY

Federal Energy Regulatory Commission

Combined Notice of Filings #1

Take notice that the Commission received the following exempt wholesale generator filings:

Docket Numbers: EG16-62-000.

Applicants: Golden Fields Solar I, LLC.

Description: Notice of Self-Certification of Exempt Wholesale Generator Status of Golden Fields Solar I, LLC.

Filed Date: 3/3/16.

Accession Number: 20160303-5097.

Comments Due: 5 p.m. ET 3/24/16.

Take notice that the Commission received the following electric rate filings:

Docket Numbers: ER16-466-000.

Applicants: Anahau Energy, LLC.

Description: Supplement to December 4, 2015 Notification of Change in Status and Tariff Amendment.

Filed Date: 3/3/16.

Accession Number: 20160303-5206.

Comments Due: 5 p.m. ET 3/24/16.

Docket Numbers: ER16-871-001.

Applicants: Portland General Electric Company.

Description: Tariff Amendment: PGE OATT Section 7 Revision Amendment to be effective 4/2/2016.

Filed Date: 3/4/16.

Accession Number: 20160304-5189.

Comments Due: 5 p.m. ET 3/25/16.

Docket Numbers: ER16-904-001.

Applicants: Smith Creek Hydro, LLC.

Description: Tariff Amendment: Amendment to MBR to be effective 4/1/2016.

Filed Date: 3/4/16.

Accession Number: 20160304-5138.

Comments Due: 5 p.m. ET 3/14/16.

Docket Numbers: ER16-1076-000.

Applicants: 360Recycling.

Description: Baseline eTariff Filing: Application for MBR Authority to be effective 4/19/2016.

Filed Date: 3/4/16.

Accession Number: 20160304-5045.

Comments Due: 5 p.m. ET 3/25/16.

Docket Numbers: ER16-1077-000.

Applicants: Southwest Power Pool, Inc.

Description: Section 205(d) Rate Filing: 2014 Southwestern Power Administration Amendatory Agreement Third Extension to be effective 3/1/2016.

Filed Date: 3/4/16.

Accession Number: 20160304-5086.

Comments Due: 5 p.m. ET 3/25/16.

Docket Numbers: ER16-1078-000.

Applicants: PJM Interconnection, L.L.C.

Description: Section 205(d) Rate Filing: Original Service Agreement No. 4415; Queue Position Z2-028 to be effective 2/3/2016.

Filed Date: 3/4/16.

Accession Number: 20160304-5105.

Comments Due: 5 p.m. ET 3/25/16.

Docket Numbers: ER16-1080-000.

Applicants: TransCanada Power Marketing Ltd.

Description: Section 205(d) Rate Filing: Notice of Succession to be effective 2/1/2016.

Filed Date: 3/4/16.

Accession Number: 20160304-5111.

Comments Due: 5 p.m. ET 3/25/16.

Docket Numbers: ER16-1081-000.

Applicants: Midcontinent Independent System Operator, Inc.

Description: Section 205(d) Rate Filing: 2016-03-04_SA 2900 Cedar Falls-Western Minnesota Municipal GIA (J329) to be effective 3/5/2016.

Filed Date: 3/4/16.

Accession Number: 20160304-5136.

Comments Due: 5 p.m. ET 3/25/16.

Docket Numbers: ER16-1083-000.

Applicants: Midcontinent Independent System Operator, Inc.

Description: Section 205(d) Rate Filing: 2016-03-04_SA 2786 ITC Midwest-IPL 1st Rev GIA (J233) to be effective 3/5/2016.

Filed Date: 3/4/16.

Accession Number: 20160304-5230.

Comments Due: 5 p.m. ET 3/25/16.

Docket Numbers: ER16-1084-000.

Applicants: PJM Interconnection, L.L.C.

Description: Section 205(d) Rate Filing: Original ISA No. 4408, Queue No. Z1-038 to be effective 2/3/2016.

Filed Date: 3/4/16.

Accession Number: 20160304-5249.

Comments Due: 5 p.m. ET 3/25/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 4, 2016.
Nathaniel J. Davis, Sr.,
Deputy Secretary.

[FR Doc. 2016-05353 Filed 3-9-16; 8:45 am]

BILLING CODE 6717-01-P